DEPARTMENT OF THE INTERIOR

Fish and Wildlife Service

[FWS-R9-MB-2010-N264; 1200-1232-0000-P2]

Information Collection Sent to the Office of Management and Budget (OMB) for Approval; OMB Control Number 1018-0022; Federal Fish and Wildlife Permit Applications and Reports—Migratory Birds and Eagles

AGENCY: Fish and Wildlife Service, Interior.

ACTION: Notice; request for comments.

SUMMARY: We (U.S. Fish and Wildlife Service) have sent an Information Collection Request (ICR) to OMB for review and approval. We summarize the ICR below and describe the nature of the collection and the estimated burden and cost. This information collection is scheduled to expire on November 30, 2010. We may not conduct or sponsor and a person is not required to respond to a collection of information unless it displays a currently valid OMB control number. However, under OMB regulations, we may continue to conduct or sponsor this information collection while it is pending at OMB.

DATES: You must submit comments on or before December 29, 2010.

ADDRESSES: Send your comments and suggestions on this information collection to the Desk Officer for the Department of the Interior at OMB-OIRA at (202) 395-5806 (fax) or OIRA_DOCKET@OMB.eop.gov (e-mail). Please provide a copy of your comments to the Service Information Collection Clearance Officer, U.S. Fish and Wildlife Service, MS 222-ARLSQ, 4401 North Fairfax Drive, Arlington, VA 22203 (mail), or infocol@fws.gov (e-mail).

FOR FURTHER INFORMATION CONTACT: To request additional information about this ICR, contact Susan Lawrence, Division of Migratory Bird Management, U.S. Fish and Wildlife Service, MS MBSP-4107, 4501 North Fairfax Drive, Arlington, VA 22203 (mail); Susan_M_Lawrence@fws.gov (e-mail); or 703-358-2016 (telephone).

SUPPLEMENTARY INFORMATION: OMB Control Number: 1018-0022.

Title: Federal Fish and Wildlife License/Permit Applications and Reports, Migratory Birds and Eagles, 50 CFR 10, 13, 21, and 22.

Service Form Numbers: 3-200-6 through 3-200-18, 3-200-67, 3-200-68, 3-200-71, 3-200-72, 3-200-77, 3-200-78, 3-200-79, 3-200-81, 3-200-82, 3-202-1 through 3-202-17, 3-186, and 3-186A.

Type of Request: Revision of a currently approved collection.

Description of Respondents: Individuals; zoological parks; museums; universities; scientists; taxidermists; businesses; and Federal, State, tribal, and local governments.

Respondent's Obligation: Required to obtain or retain a benefit.

Frequency of Collection: On occasion for applications; annually or on occasion for reports.

Number of Respondents: 57,260.

Estimated Number of Annual Responses: 57,260.

Completion Time per Response: Varies from 15 minutes to 40 hours depending on activity.

Estimated Total Annual Burden Hours: 93,402.

Estimated Annual Nonhour Burden Cost: $1,049,925 for fees associated with permit applications.

Abstract: Our Regional Migratory Bird Permit Offices use information that we collect on permit applications to determine the eligibility of applicants for permits requested in accordance with the criteria in various Federal wildlife conservation laws and international treaties, including:

(1) Migratory Bird Treaty Act (16 U.S.C. 703 et seq.).

(2) Lacey Act (16 U.S.C. 3371 et seq.).

(3) Bald and Golden Eagle Protection Act (16 U.S.C. 668).

Service regulations implementing these statutes and treaties are in Chapter I, Subchapter B of Title 50 Code of Federal Regulations (CFR). These regulations stipulate general and specific requirements that, when met, allow us to issue permits to authorize activities that are otherwise prohibited.

All Service permit applications are in the 3-200 series of forms, each tailored to a specific activity based on the requirements for specific types of permits. We collect standard identifier information for all permits. The information that we collect on applications and reports is the minimum necessary for us to determine if the applicant meets/continues to meet issuance requirements for the particular activity. This revised ICR includes modifications to the format and content of the currently approved applications so that they (a) are easier to understand and complete and (b) will accommodate future electronic permitting.

This ICR includes four permit application and report forms that are currently approved under OMB Control Number 1018-0136. Once OMB takes action on this IC, we will discontinue OMB Control No. 1018-0136.

• FWS Form 3-200-71 (Eagle Take (Disturb)).

• FWS Form 3-200-72 (Eagle Nest Take).

• FWS Form 3-202-15 (Eagle Take Monitoring and Annual Report).

• FWS Form 3-202-16 (Eagle Nest Take Monitoring and Reporting).

In addition, we are proposing three new forms:

• FWS Form 3-200-81 (Special Purpose—Utility) will provide an application specifically tailored for utilities (e.g., power, communications) to request permits to salvage migratory birds on their property and rights-of-way.

• FWS Form 3-200-82 (Eagle Transport Into and Out of the United States) will provide an application for permits under the Bald and Golden Eagle Protection Act to transport dead eagle specimens into and out of the country temporarily for scientific or exhibition purposes, such as for museum exhibits.

• FWS Form 3-202-17 (Special Purpose—Utility Annual Report) will provide a standardized annual report form for Special Purpose—Utility permits.

Comments: On April 7, 2010, we published in the Federal Register (75 FR 17757) a notice of our intent to request that OMB renew approval for this information collection. In that notice, we solicited comments for 60 days, ending on June 7, 2010. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: November 23, 2010.
Hope Grey,
Information Collection Clearance Officer, Fish and Wildlife Service.

[FR Doc. 2010-29979 Filed 11-29-10; 8:45 am]

BILLING CODE 4310-55-P